DEPARTMENT OF HEALTH AND HUMAN SERVICES

Administration for Children and Families

FDA Number: 93.671

Funding Opportunity Announcement for Family Violence Prevention and Services/Grants for Domestic Violence Shelters/Grants to Native American Tribes (Including Alaska Native Villages) and Tribal Organizations

AGENCY: Family and Youth Services Bureau (FYSB), Administration on Children, Youth, and Families (ACYF), ACF, HHS.

ACTION: This Funding Opportunity Announcement (FOA) was originally published as Funding Opportunity Number HHS-2015-ACF-ACYF-FVPS-0135 on February 2, 2015 at http://www.acf.hhs.gov/grants/open/foa/index.cfm?switch=foa&fon=HHS-2015-ACF-ACYF-FVPS-0135. FYSB is publishing this notice in the Federal Register to satisfy its regulatory requirements at 45 CFR 1370.2.

SUMMARY: This FOA governs the proposed award of formula grants under the Family Violence Prevention and Services Act (FVPSA) to Native American tribes (including Alaska Native villages) and tribal organizations. The purpose of these grants is to: (1) Assist tribes in efforts to increase public awareness about, and primary and secondary prevention of, family violence, domestic violence, and dating violence; and (2) assist tribes in efforts to provide immediate shelter and supportive services for victims of family violence, domestic violence, or dating violence, and their dependents (42 U.S.C. 10401, et. seq.). This FOA announces formula awards and is not open for competition.

DATES: The application due date is April 6, 2015.

FOR FURTHER INFORMATION CONTACT: Shena R. Williams at (202) 205-5932 or email at Shena.Williams@acf.hhs.gov.

SUPPLEMENTARY INFORMATION: The following is the full, published FOA, available at http://www.acf.hhs.gov/grants/open/foa/index.cfm?switch=foa&fon=HHS-2015-ACF-ACYF-FVPS-0135:

I. Funding Opportunity Description

Description

Background

Awards under this FVPSA funding opportunity announcement are administered through the Administration on Children, Youth and Families (ACYF) Family and Youth Services Bureau (FYSB). They are designed to assist Tribes in their efforts to support the establishment, maintenance, and expansion of programs and projects: (1) To prevent incidents of family violence, domestic violence, and dating violence; (2) to provide immediate shelter, supportive services, and access to community-based programs for victims of family violence, domestic violence, or dating violence, and their dependents; and (3) to provide specialized services for children exposed to family violence, domestic violence, or dating violence, underserved populations, and victims who are members of racial and ethnic minority populations (§ 10406(a) as applied pursuant to § 10409(c)).

Funding under this announcement will assist Tribes in safeguarding lives of victims of intimate partner violence and in addressing the unique circumstances and obstacles that may affect responses to intimate partner violence in Tribal communities.

In FY 2014, the Department of Health and Human Services (HHS) agencies, including the Administration for Children and Families (ACF), consulted with Tribal governments on all of the grant programs administered by ACF. FVPSA-related issues such as grant award dates, extending project periods, and the recent shift in award amounts were addressed during each of the consultations.

During FY 2014, ACF awarded FVPSA formula grants to 120 Tribes or Tribal organizations in support of 243 Tribes; 53 states and territories; and 56 nonprofit State Domestic Violence Coalitions. In addition, ACF supplied additional funding for multi-year FVPSA discretionary grants to one National Indian Resource Center Addressing Domestic Violence and Safety for Indian Women; other national, special issue, and culturally specific resource centers; and the National Domestic Violence Hotline.

Ensuring the Well-Being of Vulnerable Children and Families/Adults

ACYF is committed to facilitating healing and recovery and promoting the social and emotional well-being of children, youth, and families/adults who have experienced maltreatment, exposure to violence, and/or trauma. Awards governed by this funding opportunity announcement and other current fiscal year expenditures are designed to ensure that effective interventions are in place to build skills and capacities that contribute to the healthy, positive, and productive functioning of families.

Experiencing trauma can have a profound effect on the overall functioning of individuals and families. Thus, efforts to address the impact of trauma are essential in cultivating social and emotional well-being. ACYF therefore promotes a trauma-informed approach, which involves understanding and responding to the symptoms of chronic interpersonal trauma and traumatic stress, as well as the behavioral and mental health consequences of trauma.

ACYF expects to maintain a continued focus on social and emotional well-being as a critical component of its overall mission to ensure positive outcomes for all individuals and families. Tribal grantees have a critical role in incorporating ACYF priorities by helping to ensure trauma-informed interventions are embedded within the service provision framework of all services funded by FVPSA. Tribes and Tribal organizations are strongly encouraged to leverage the expertise of the FVPSA-funded National Indigenous Women's Resource Center, Inc. (NIWRC). NIWRC is a Native nonprofit organization created specifically to serve as the National Indian Resource Center Addressing Domestic Violence and Safety for Indian Women (see http://www.niwrc.org/about-us/mission-work-and-philosophy for more information) and the National Center on Domestic Violence, Trauma and Mental Health to infuse programs with best and promising practices on trauma-informed interventions as they seek to promote the social and emotional well-being of families seeking shelter and supportive services.

Use of Funds

Grantees should ensure that not less than 70 percent of the funds distributed are used for the primary purpose of providing immediate shelter and supportive services to adult and youth victims of family violence, domestic violence, or dating violence, and their dependents. Not less than 25 percent of the funds must be used for the purpose of providing supportive services and prevention services (§ 10408(b)(2) as applied pursuant to § 10409(e)).

FVPSA funds awarded to grantees should be used for activities described in § 10408(b)(1) (as applied pursuant to § 10409(e)):

Shelter

• Provision of immediate shelter and related supportive services to adult and youth victims of family violence, domestic violence, or dating violence, and their dependents, including paying for the operating and administrative expenses of the facilities for such shelter.

Supportive Services

• Provision of individual and group counseling, peer support groups, and referral to community-based services to assist family violence, domestic violence, and dating violence victims, and their dependents, in recovering from the effects of the violence.

• Provision of services, training, technical assistance, and outreach to increase awareness of family violence, domestic violence, and dating violence, and increase the accessibility of family violence, domestic violence, and dating violence services.

• Provision of culturally and linguistically appropriate services.

• Provision of services for children exposed to family violence, domestic violence, or dating violence, including age-appropriate counseling, supportive services, and services for the non-abusing parent that support that parent's role as a caregiver, which may, as appropriate, include services that work with the non-abusing parent and child together.

• Provision of advocacy, case management services, and information and referral services, concerning issues related to family violence, domestic violence, or dating violence intervention and prevention, including: (1) Assistance in accessing related federal and state financial assistance programs; (2) legal advocacy to assist victims and their dependents; (3) medical advocacy, including provision of referrals for appropriate health care services (including mental health, alcohol, and drug abuse treatment), but which shall not include reimbursement for any health care services; (4) assistance locating and securing safe and affordable permanent housing and homelessness prevention services; (5) transportation, child care, respite care, job training and employment services, financial literacy services and education, financial planning and related economic empowerment services; and (6) parenting and other educational services for victims and their dependents.

• Provision of prevention services, including outreach to underserved populations. (Note that Tribes and Tribal subpopulations are also considered underserved populations. See Section I. Definitions, for “underserved” definition.)

• Assistance in developing safety plans, and supporting efforts of victims of family violence, domestic violence, or dating violence to make decisions related to their ongoing safety and well-being.

Annual FVPSA Tribal Grantee Meeting

One or more grantee representatives should plan to attend FVPSA's Tribal grantee meeting and may use grant funding to support the travel of up to two participants. The meeting is a training and technical assistance activity focusing on FVPSA administrative issues as well as the promotion of evidence-informed and promising practices to address family violence, domestic violence, and dating violence. Subsequent correspondence will advise the grantees of the date, time, and location of their grantee meeting in 2015.

Client Confidentiality

In order to ensure the safety of adult, youth, and child victims of family violence, domestic violence, or dating violence, and their families, FVPSA-funded programs must establish and implement policies and protocols for maintaining the confidentiality of records pertaining to any individual provided family violence, domestic violence, and dating violence services. Consequently, when providing statistical data on program activities and program services, individual identifiers of client records will not be used (§ 10406(c)(5)) as applied per § 10409(c).

In the annual Performance Progress Report (PPR), grantees must collect unduplicated data from each program. No client-level data should be shared with a third party, regardless of encryption, hashing, or other data security measures, without a written, time-limited release as described in § 10406(c)(5). The address or location of any FVPSA-supported shelter facility shall, except with written authorization of the person or persons responsible for the operation of such shelter, not be made public (§ 10406(c)(5)(H)) and the confidentiality of records pertaining to any individual provided family violence, domestic violence, and dating violence services by any FVPSA-supported program will be strictly maintained.

Coordinated and Accessible Services

The impacts of intimate partner violence may include physical injury and death of primary or secondary victims, psychological trauma, isolation from family and friends, harm to children living with a parent or caretaker who is either experiencing or perpetrating intimate partner violence, increased fear, reduced mobility, damaged credit, employment and financial instability, homelessness, substance abuse, chronic illnesses, and a host of other health and related mental health consequences. In Tribal communities, these dynamics may be compounded by barriers such as the isolation of vast rural and remote areas, the concern for safety in isolated settings, lack of housing and shelter options, and the transportation requirements over long distances. These factors heighten the need for the coordination of the services through an often limited delivery system. To help bring about a more effective response to the problem of family violence, domestic violence, or dating violence, HHS urges Tribes and Tribal organizations receiving funds under this funding opportunity to coordinate activities and related issues and to consider joining a consortium of Tribes to coordinate service delivery where appropriate.

It is essential that community service providers are involved in the design and improvement of intervention and prevention activities. Coordination and collaboration among victim services providers; community-based, culturally specific, and faith-based services providers; housing and homeless services providers; and Tribal, federal, state, and local public officials and agencies are needed to provide more responsive and effective services to victims of family violence, domestic violence, and dating violence, and their families.

To promote a more effective response to family violence, domestic violence, and dating violence, HHS requires states receiving FVPSA funds to collaborate with State Domestic Violence Coalitions, Tribes, Tribal organizations, service providers, and community-based organizations to address the needs of family violence, domestic violence, and dating violence victims, particularly for those who are members of racial and ethnic minority populations and underserved populations (§ 10407(a)(2)). Tribes and Tribal organizations are also encouraged to collaborate with Tribal Coalitions, which are funded by the Department of Justice, through the Office of Violence Against Women. For more information please visit http://www.justice.gov/ovw/tribal-communities#about-tribal-communities.

To serve victims most in need and to comply with federal law, services must be widely accessible. Services must not discriminate on the basis of age, disability, sex, race, color, national origin, gender identity, or religion (§ 10406(c)(2)) as applied per § 10409(c). Additionally, Tribes must assist all individuals seeking services and may not restrict services to Tribal members.

The HHS Office for Civil Rights provides guidance that may assist grantees in complying with civil rights laws that prohibit discrimination on these bases. Please see www.hhs.gov/ocr/civilrights/understanding/index.html. HHS also provides guidance to recipients of federal financial assistance on meeting the legal obligation to take reasonable steps to provide meaningful access to federally assisted programs by persons with limited English proficiency. Please see www.hhs.gov/ocr/civilrights/resources/laws/revisedlep.html.

Additionally, HHS provides guidance regarding access to HHS-funded services for immigrant survivors of domestic violence. Access for immigrant victims of family violence or dating violence to HHS-funded services is similar to that for immigrant domestic violence victims. Please see www.hhs.gov/ocr/civilrights/resources/specialtopics/origin/domesticviolencefactsheet.html.

Services must also be provided on a voluntary basis; receipt of emergency shelter or housing must not be conditioned on participation in supportive services (§ 10408(d)). Please see Appendix B for guidance regarding access to HHS-funded services for lesbian, gay, bisexual, transgender, or questioning (LGBTQ) (also known as “Two Spirited”) survivors of intimate partner violence.

Additionally, please see Appendix B—LGBTQ (also known as “Two-Spirit”) Accessibility Policy; this Policy provides that the applicant must consider how its program will be inclusive of and non-stigmatizing toward LGBTQ/Two-Spirit participants in its application for funding. If not already in place, the applicant and, if applicable, subawardees must establish and publicize policies prohibiting harassment based on race, sexual orientation, gender, gender identity (or expression), religion, and national origin, as well as provide staff training and implement policies and procedures for documenting work reflecting these assurances.

Definitions—For the Purposes of This Funding Opportunity

Tribes and Tribal organizations should use the following definitions in carrying out their programs.

Dating Violence: Violence committed by a person who is or has been in a social relationship of a romantic or intimate nature with the victim and where the existence of such a relationship shall be determined based on a consideration of the length of the relationship, the type of relationship, and the frequency of interaction between the persons involved in the relationship.

Domestic Violence: Felony or misdemeanor crimes of violence committed by a current or former spouse or intimate partner of the victim, by a person with whom the victim shares a child in common, by a person who is cohabitating with or has cohabitated with the victim as a spouse or intimate partner, by a person similarly situated to a spouse of the victim under the domestic or family violence laws of the jurisdiction receiving grant monies, or by any other person against an adult or youth victim who is protected from that person's acts under the domestic or family violence laws of the jurisdiction.

Family Violence: Any act or threatened act of violence, including any forceful detention of an individual, which (a) results or threatens to result in physical injury; and (b) is committed by a person against another individual (including an elderly person) to whom such person is, or was, related by blood or marriage, or otherwise legally related, or with whom such person is, or was, lawfully residing.

Intimate Partner Violence: Term used in place of “family violence, domestic violence, or dating violence” for brevity's sake.

Indian Tribe: Any Indian Tribe, band, nation, or other organized group or community, including any Alaska Native village or regional or village corporation as defined in or established pursuant to the Alaska Native Claims Settlement Act (43 U.S.C. 1601 et. seq.), which is recognized as eligible for the special programs and services provided by the United States to Indians because of their status as Indians.

Native American Tribe: Alternative term for Indian Tribe.

Personally Identifying Information or Personal Information: Any individually identifying information for or about an individual, including information likely to disclose the location of a victim of domestic violence, dating violence, sexual assault, or stalking, regardless of whether the information is encoded, encrypted, hashed, or otherwise protected, including: a first and last name; a home or other physical address; contact information (including a postal, email or Internet protocol address, or telephone or facsimile number); a social security number, driver's license number, passport number, or student identification number; and any other information, including date of birth, racial or ethnic background, or religious affiliation, that, would serve to identify any individual.

Shelter: The provision of temporary refuge and supportive services in compliance with applicable state law (including regulation) governing the provision, on a regular basis, of shelter, safe homes, meals, and supportive services to victims of family violence, domestic violence, or dating violence, and their dependents.

State Domestic Violence Coalition: A statewide, nongovernmental nonprofit, private domestic violence service organization with a membership that includes a majority of the primary-purpose domestic violence service providers in the state and has board membership representative of primary-purpose domestic violence service providers and which may include representatives of the communities in which the services are being provided in the state; has as its purpose to provide education, support, and technical assistance to such service providers to enable the providers to establish and maintain shelter and supportive services for victims of domestic violence and their dependents; and serves as an information clearinghouse, primary point of contact, and resource center on domestic violence for the state and supports the development of policies, protocols, and procedures to enhance domestic violence intervention and prevention in the state.

Supportive Services: Services for adult and youth victims of family violence, domestic violence, or dating violence, and their dependents. Such services are designed to meet the needs of such victims for short-term, transitional, or long-term safety and provide counseling, advocacy, or assistance for victims of family violence, domestic violence, or dating violence, and their dependents.

Tribe: Reference to Indian Tribe used for brevity's sake.

Tribal Consortium: A partnership between one or more Tribes or (including qualifying Alaska Native villages and entities) that authorizes a single Tribal organization or nonprofit to submit an application and administer the FVPSA grant funds on their behalf.

Tribally Designated Official: An individual designated by an Indian Tribe, Tribal organization, or nonprofit private organization authorized by an Indian Tribe to administer a grant awarded under § 10409.

Tribal Organization: The recognized governing body of any Indian Tribe; any legally established organization of Indians that is controlled, sanctioned, or chartered by such governing body or is democratically elected by the adult members of the Indian community to be served by such organization and which includes the maximum participation of Indians in all phases of its activities: Provided, that in any case where a contract is let or grant made to an organization to perform services benefiting more than one Indian Tribe, the approval of each such Indian Tribe shall be a prerequisite to the letting or making of such contract or grant.

Underserved Populations: Populations who face barriers in accessing and using victim services, including populations underserved because of geographic location, religion, sexual orientation, gender identity, race and ethnicity, special needs (such as language barriers, disabilities, alienage status, or age), and any other population determined to be underserved by the Attorney General or by the Secretary of HHS, as appropriate.

II. Award Information

Subject to the availability of federal appropriations and as authorized by law, in FY 2015, ACYF will allocate 10 percent of the appropriation available under § 10403(a) to Tribes for the establishment and operation of shelters (including safe houses), and the provision of supportive services or prevention services to adults and youth victims of family violence, domestic violence, or dating violence, and their dependents.

In addition to Tribal formula grants, HHS will also make available funds to states to support local domestic violence programs to provide immediate shelter and supportive services for adult and youth victims of family violence, domestic violence, or dating violence, and their dependents; State Domestic Violence Coalitions to provide technical assistance and training, advocacy services, among other activities with local domestic violence programs; the national resource centers, special issue resource centers, and culturally specific resource centers; the National Domestic Violence Hotline; and to support discretionary projects including training and technical assistance, collaborative projects with advocacy organizations and service providers, data collection efforts, public education activities, research, and other demonstration projects.

In computing Tribal allocations, ACF will use the latest available population figures available from the Census Bureau. The latest Census population counts may be viewed at: www.census.gov. Where Census Bureau data are unavailable, ACF will use figures from the Bureau of Indian Affairs' (BIA's) Indian Population and Labor Force Report, which is available at: www.bia.gov/WhatWeDo/Knowledge/Reports/index.htm.

The funding formula for the allocation of family violence funds is based upon the Tribe's population. The formula has two parts, the Tribal population base allocation and a population category allocation.

Base allocations are determined by a Tribe's population and a funds allocation schedule. Tribes with populations between 1 and 50,000 people receive a $2,500 base allocation for the first 1,500 people. For each additional 1,000 people above the 1,500 person minimum, a Tribe's base allocation is increased $1,000. Tribes with populations between 50,001 to 100,000 people receive base allocations of $125,000, and Tribes with populations of 100,001 to 150,000 receive a base allocation of $175,000.

Once the base allocations have been distributed to the Tribes that have applied for FVPSA funding, the ratio of the Tribal population category allocation to the total of all base allocations is then considered in allocating the remainder of the funds. By establishing base amounts with distribution of proportional amounts for larger Tribes, FYSB is balancing the need for basic services for all Tribes by interpreting greater demand for services as Tribes with larger populations. In FY 2014, actual grant awards ranged from $16,386 to $1,474,785.

Tribes with smaller populations are encouraged to apply for FVPSA funding as a consortium. In a Tribal consortium, the population of all of the Tribes involved is used to calculate the award amount. The allocations for each of the Tribes included in the consortium will be combined to determine the total grant for the consortium.

Length of Project Periods

FVPSA Tribal formula grant awards will be used to perform or to partially perform functions or activities that take place within a 2-year period. The project period for this award is from October 1, 2014, to September 30, 2016.

Expenditure Period

The project period under this program announcement is 24 months. The FVPSA funds may be used for expenditures starting October 1 of each fiscal year for which they are granted, and will be available for expenditure through September 30 of the following fiscal year.

Award year (Federal fiscal year (FY)) | Project period (24 months) | Application requirements & expenditure periods
FY 2015 | 10/01/2014—9/30/2016 | Regardless of the date the award is received, these funds may be expended by the grantee for obligations incurred since October 1, 2014. The funds may be expended through September 30, 2016.

Re-allotted funds, if any, are available for expenditure until the end of the fiscal year following the fiscal year that the funds became available for re-allotment. FY 2015 grant funds that are made available to Tribes and Tribal organizations through re-allotment must be expended by the grantee no later than September 30, 2016.

III. Eligibility Information

Tribes, Tribal organizations, and nonprofit private organizations authorized by a Tribe, as defined in Section I of this announcement, are eligible for funding under this program. A Tribe has the option to authorize a Tribal organization or a nonprofit private organization to submit an application and administer the grant funds awarded under this grant (§ 10409(b)). Tribes may apply singularly or as part of a Tribal consortium.

Additional Information on Eligibility

DUNS Number and System for Award Management (SAM) Requirement

All applicants must have a DUNS Number (http://fedgov.dnb.com/webform) and an active registration with the Central Contractor Registry (CCR) on the System for Award Management (SAM.gov, www.sam.gov).

Obtaining a DUNS Number may take 1 to 2 days.

All applicants are required to maintain an active SAM registration until the application process is complete. If a grant is awarded, registration at SAM.gov must be active throughout the life of the award.

Plan ahead. Allow up to 10 business days after you submit your registration for it to become active in SAM and an additional 24 hours before that registration information is available in other government systems, i.e. Grants.gov.

This action should allow you time to resolve any issues that may arise. Failure to comply with these requirements may result in your inability to submit your application through Grants.gov or prevent the award of a grant. Applicants should maintain documentation (with dates) of your efforts to register for, or renew a registration, at SAM. User Guides are available under the “Help” tab at https://www.sam.gov.

HHS requires all entities that plan to apply for, and ultimately receive, federal grant funds from any HHS Agency, or receive subawards directly from recipients of those grant funds to:

• Be registered in the SAM prior to submitting an application or plan;

• Maintain an active SAM registration with current information at all times during which it has an active award or an application or plan under consideration by an OPDIV; and

• Provide its active DUNS number in each application or plan it submits to the OPDIV.

ACF is prohibited from making an award until an applicant has complied with the requirements as described in section V. of this FOA.

IV. Application Requirements

Forms, Assurances, Certifications, and Policy

On October 1, 2013, the Administration for Children and Families implemented required electronic application submission of State and/or Tribal plans via the Online Data Collection System (OLDC) for all mandatory grant programs. (See 78 FR 60285-60286, October 1, 2013.) Mandatory grant recipients are required to use the OLDC to submit the Application for Federal Assistance SF-424 Mandatory Form (SF-424M) and upload all required documents. The form is available to applicants and grantees within the OLDC system at https://extranet.acf.hhs.gov/oldcdocs/materials.html. ACF will not accept paper applications, or those submitted via email or facsimile, without a waiver.

Request an Exemption From Required Electronic Submission

ACF recognizes that some of the recipient community may have limited or no Internet access, and/or limited computer capacity, which may prohibit uploading large files to the Internet through the OLDC system. To accommodate such recipients, ACF is instituting an exemption procedure, on a case-by-case basis, that will allow such recipients to submit hard copy, paper State and Tribal plans and reporting forms by the United States Postal Service, hand-delivery, recipient courier, overnight/express mail couriers, or other representatives of the recipient.

Additionally, on a case-by-case basis, we will consider requests to accept hard copy, paper submissions of State and Tribal plans and reporting forms when circumstances such as natural disasters occur (floods, hurricanes, etc.); or when there are widespread disruptions of mail service; or in other rare cases that would prevent electronic submission of the documents.

Recipients will be required to submit a written statement to ACF that the recipient qualifies for an exemption under one of these grounds: Lack of Internet access; or limited computer capacity that prevents the uploading of large files to the Internet; the occurrence of natural disasters (floods, hurricanes, etc.); or when there are widespread disruptions of mail service; or in other rare cases that would prevent electronic submission of the documents.

Exemption requests will be reviewed and the recipient will be notified of a decision to approve or deny the request. Requests should state if the exemption is for submission of the SF-424M and State and/or Tribal plan, Performance Progress Reports (PPR), or Federal Financial Reports (FFR). The written statement must be sent to the Program Office (for SF-424M and State and/or Tribal plan, and PPR exemption requests) and/or ACF Grants Management Office (for FFR exemption requests) points of contact shown in Section VIII. Agency Contact of this funding opportunity announcement. Requests must be received on or before the due date for applications listed in this funding opportunity announcement. Exemption requests may be submitted by regular mail or by email.

In all cases, the decision to allow an exemption to accept submission of hard copy, paper State/Tribal plans and reporting forms will rest with the Program Office listed in this announcement and/or ACF's Office of Grants Management. Exemptions are applicable only to the Federal fiscal year in which they are received and approved. If an exemption is necessary for a future Federal fiscal year, a request must be submitted during each Federal fiscal year for which an exemption is necessary.

Forms, Assurances, Certifications, and Policy

Applicants seeking financial assistance under this announcement must submit the listed Standard Forms (SFs), assurances, certifications and policy. All required Standard Forms, assurances, and certifications are available at ACF Funding Opportunities Forms or at the Grants.gov Forms Repository unless specified otherwise.

Forms/Certifications | Description | Where found
SF-424M | This is a required Standard Form. Application for Federal Assistance—Mandatory | http://www.grants.gov/web/grants/forms/sf-424-mandatory-family.html.
Certification (Grants.gov) Regarding Lobbying | Required of all applicants at the time of their application. If not available with the application, it must be submitted prior to the award of the grant | Available at http://www.grants.gov/web/grants/forms/sf-424-mandatory-family.html.
SF-LLL—Disclosure of Lobbying Activities | If any funds have been paid or will be paid to any person for influencing or attempting to influence an officer or employee of any agency, a member of Congress, an officer or employee of Congress, or an employee of a member of Congress in connection with this commitment providing for the United States to insure or guarantee a loan, the applicant shall complete and submit the SF-LLL, “Disclosure Form to Report Lobbying,” in accordance with its instructions. Applicants must furnish an executed copy of the Certification Regarding Lobbying prior to award | “Disclosure Form to Report Lobbying” is available at http://www.grants.gov/web/grants/forms/sf-424-mandatory-family.html.
The needs of lesbian, gay, bisexual, transgender, and questioning youth are taken into consideration in applicant's program design. | See Appendix B for submission requirements | See Appendix B for the complete policy description.

Assurances and Policy

Each applicant must provide a signed copy of both the assurance and policy. (See Appendices A and B.)

The Project Description

The content of the application should include the following in this order:

A. Cover Letter

The cover letter of the application should include the following information:

(1) The name and mailing address of each Tribe, Tribal organization, or nonprofit private organization applying for the FVPSA grant.

(2) The name of the Tribally Designated Official authorized to administer this grant, along with the Official's telephone number, fax number, and email address.

(3) The name of a Program Contact designated to administer and coordinate programming, including the telephone number, fax number, and email address.

(4) The Employee Identification Number (EIN) of the entity submitting the application.

(5) The D-U-N-S number of the entity submitting the application (see Section III. Eligibility).

(6) The signature of the Tribally Designated Official (see Section I. Definitions).

For Consortium applications only:

(7) The EIN of the consortium Tribes.

(8) The D-U-N-S number of the consortium Tribes.

B. Program Description

An overview of the project including:

(1) A description of the service area(s) and population(s) to be served.

(2) A description of the services and activities to be provided with FVPSA funds.

(3) A description of barriers that challenge the effective operation of program activities and/or services provided to victims of domestic violence, family violence, and dating violence, and their dependents.

(4) A description of the technical assistance needed to address the described barriers.

C. Capacity

A description of the applicant's operation of and/or capacity to carry out a FVPSA program. This might be demonstrated in ways such as the following:

(1) The current operation of a shelter (including a safe house), or domestic and dating violence prevention program;

(2) The establishment of joint or collaborative service agreements with a local public agency or a private nonprofit agency for the operation of family violence, domestic violence, or dating violence activities or services; or

(3) The operation of other social services programs.

D. Services To Be Provided

A description of the activities and services to be provided, including:

(1) How the grant funds will be used to provide shelter, supportive services, and prevention services for victims of family violence, domestic violence, and dating violence.

(2) How the services are designed to reduce family violence, domestic violence, and dating violence.

(3) A plan describing how the organization will provide specialized services for children exposed to family violence, domestic violence, or dating violence.

(4) An explanation of how the program plans to document and track services provided, as well as any outcomes that can be linked to the program's logic model.

(5) A description of how the funds are to be spent. For example, costs of employing a half-time Domestic Violence Advocate, costs for transportation to shelter, etc.

E. Involvement of Individuals and Organizations

A description of the procedures designed to involve knowledgeable individuals and interested organizations in providing services funded under FVPSA. For example, knowledgeable individuals and interested organizations may include Tribal officials or social services staff involved in family violence prevention, Tribal law enforcement officials, representatives of State or Tribal Domestic Violence Coalitions, and operators of domestic violence shelters and service programs.

F. Involvement of Community-Based Organizations

(1) A description of how the applicant will involve community-based organizations whose primary purpose is to provide culturally appropriate services to underserved populations.

(2) A description of how these community-based organizations can assist the Tribe in addressing the unmet needs of such populations.

G. Current Signed Tribal Resolution

A copy of a current Tribal resolution or an equivalent document that:

(1) Covers the entirety of FY 2015, including a date when the resolution or equivalent document expires, which can be no more than 5 years.

(2) States that the Tribe or Tribal organization has the authority to submit an application on behalf of the individuals in the Tribe(s) and to administer programs and activities funded.

Note: An applicant that received no funding in the immediately preceding fiscal year must submit a new Tribal resolution or its equivalent. An applicant funded as part of a consortium in the immediately preceding year that is now seeking funds as a single Tribe must also submit a new resolution or its equivalent. Likewise, an applicant funded as a single Tribe in the immediately preceding fiscal year that is now seeking funding as a part of a consortium must submit a new resolution or its equivalent.

H. Policies and Procedures

Written documentation of the policies and procedures developed and implemented, including copies of the policies and procedures, to ensure that the safety and confidentiality of clients and their dependents served is maintained as described in Section I.

Paperwork Reduction Disclaimer

As required by the Paperwork Reduction Act, 44 U.S.C. 3501-3520, the public reporting burden for the project description is estimated to average 10 hours per response, including the time for reviewing instructions, gathering and maintaining the data needed, and reviewing the collection of information. The Project Description information collection is approved under OMB control number 0970-0280, which expires September 30, 2017. An agency may not conduct or sponsor, and a person is not required to respond to, a collection of information unless it displays a currently valid OMB control number.

Intergovernmental Review of Federal Programs

The review and comment provisions of the Executive Order (E.O.) 12372 and 45 CFR part 100 do not apply. Federally recognized Tribes are exempt from all provisions and requirements of E.O. 12372.

Funding Restrictions

The Consolidated Appropriations Act, 2014 (Pub. L. 113-76), enacted January 17, 2014, limits the salary amount that may be awarded and charged to ACF grants and cooperative agreements. Award funds issued under this announcement may not be used to pay the salary, or any percentage of salary, to an individual at a rate in excess of Executive Level II. The Executive Level II salary of the Federal Executive Pay scale is $181,500 (http://www.opm.gov/policy-data-oversight/pay-leave/salaries-wages/salary-tables/pdf/2014/EX.pdf). This amount reflects an individual's base salary exclusive of fringe benefits and any income that an individual may be permitted to earn outside of the duties to the applicant organization. This salary limitation also applies to subawards/subcontracts under an ACF mandatory and discretionary grant.

Please see Appendix A “Assurances of Compliance with Grant Requirements” for additional program-specific funding restrictions.

V. Award Administration Information

Administrative and National Policy Requirements

For the terms and conditions that apply to all mandatory grants, as well as ACF program-specific terms and conditions please go to: http://www.acf.hhs.gov/grants/mandatory-formula-block-and-entitlement-grants.

Approval/Disapproval of an Application

The Secretary of HHS shall approve any application that meets the requirements of the FVPSA and this announcement. The Secretary shall not disapprove an application unless the Secretary gives the applicant reasonable notice of the Secretary's intention to disapprove and a 6-month period providing an opportunity for correction of any deficiencies. The Secretary shall give such notice within 45 days after the date of submission of the application if any of the provisions of the application have not been satisfied. If the Tribe does not correct the deficiencies in such application within the 6-month period following the receipt of the Secretary's notice, the Secretary shall withhold payment of any grant funds to such tribe until such date as the tribe provides documentation that the deficiencies have been corrected (See § 10407(b)(1) and (2) and § 10409(d)).

VI. Reporting Requirements

Performance Progress Reports (PPR)

ACF grantees must submit a PPR using the standardized format provided by FVPSA and approved by OMB (0970-0280). This report will describe the grant activities carried out during the year, report the number of people served, and contain a plan to document and track services provided, as well as any outcomes that can be linked to the program's logic model. Consortia grantees should compile the information from the individual report of each participating Tribe into a comprehensive PPR for submission. A copy of the PPR is available on the FYSB Web site at: www.acf.hhs.gov/programs/fysb/resource/ppr-Tribal-fvpsa.

PPRs for Tribes and Tribal organizations are due on an annual basis at the end of the calendar year (December 30) and will cover from October 1 through September 30. Grantees should submit their reports online through the Online Data Collection (OLDC) system at the following address: https://extranet.acf.hhs.gov/ssi.

Federal Financial Reports (FFR)

Grantees must submit annual Financial Status Reports. The first SF-425A is due December 30, 2015. The final SF-425A is due December 30, 2016. SF-425A can be found at: www.whitehouse.gov/omb/grants/grants_forms.html, www.forms.gov.

Grantees should submit their reports online through the Online Data Collection (OLDC) system at the following address: https://extranet.acf.hhs.gov/ssi. Failure to submit reports on time may be a basis for withholding grant funds, or suspending or terminating the grant. All funds reported as unobligated after the obligation period will be recouped.

VII. FFATA Subaward and Executive Compensation

Awards issued as a result of this funding opportunity may be subject to the Transparency Act subaward and executive compensation reporting requirements of 2 CFR 170. See ACF's Award Term for Federal Financial Accountability and Transparency Act (FFATA) Subaward and Executive Compensation Reporting Requirement implementing this requirement and additional award applicability information.

ACF has implemented the use of the SF-428 Tangible Property Report and the SF-429 Real Property Status Report for all grantees. Both standard forms are available at www.whitehouse.gov/omb/grants_forms/.

VIII. Agency Contact

Program Office Contact

Shena R. Williams, Senior Program Specialist at (202) 205-5932 or email at Shena.Williams@acf.hhs.gov.

Grants Management Contact

Yan Rong, Division of Mandatory Grants at (202) 401-5154 or email at Yan.Rong@acf.hhs.gov

IX. Appendices

A. Assurances of Compliance with Grant Requirements

B. LGBTQ (also known as “Two-Spirited”) Accessibility Policy

Appendix A

Assurances of Compliance With Grant Requirements

By signing and returning the document, the applicant or grantee agrees to comply with all pertinent requirements of the Family Violence Prevention and Services Act (FVPSA) and specifically assures that it will fulfill the following conditions imposed by the FVPSA, 42 U.S.C. 10401-10414 (cited herein by the applicable section number only):

(1) Family Violence Prevention and Services Act (FVPSA) grant funds will be used to provide shelter, supportive services, or prevention services to adult and youth victims of family violence, domestic violence, or dating violence, and their dependents (§ 10408(b)(1)).

(2) Not less than 70 percent of the funds distributed shall be for the primary purpose of providing immediate shelter and supportive services as defined in § 10402(9) and (12) to adult and youth victims of family violence, domestic violence, or dating violence as defined in §§ 10402(2), (3), and (4), and their dependents (§ 10408(b)(2)).

(3) Not less than 25 percent of the funds distributed shall be for the purpose of providing supportive services and prevention services as described in § 10408(b)(1)(B) through (H), to victims of family violence, domestic violence, or dating violence, and their dependents (§ 10408(b)(2)).

(4) Grant funds will not be used as direct payment to any victim of family violence, domestic violence, or dating violence, or to any dependent of such victim (§ 10408(d)(1)).

(5) No income eligibility standard will be imposed on individuals with respect to eligibility for assistance or services supported with funds appropriated to carry out the FVPSA (§ 10406(c)(3)).

(6) No fees will be levied for assistance or services provided with funds appropriated to carry out the FVPSA (§ 10406(c)(3)).

(7) The address or location of any shelter or facility assisted under the FVPSA that otherwise maintains a confidential location will, except with written authorization of the person or persons responsible for the operation of such shelter, not be made public (§ 10406(c)(5)(H)).

(8) Procedures are established to ensure compliance with the provisions of § 10406(c)(5) regarding non-disclosure of confidential of private information (§ 10407(a)(2)(A)).

(9) The applicant or grantee will comply with the conditions set forth in the FVPSA at § 10406(c)(5) and all other FVPSA obligations regarding non-disclosure of confidential or private information. These include, but are not limited to, the following requirements: (A) Grantees shall not disclose any personally identifying information collected in connection with services requested (including services utilized or denied), through grantee's funded activities or reveal personally identifying information without informed, written, reasonably time-limited consent by the person about whom information is sought, whether for the FVPSA-funded activities or any other federal or state program (additional consent requirements have been omitted but see § 10406(c)(5)(B)(ii)(I) for further requirements); (B) grantees may not release information compelled by statutory or court order unless adhering to the requirements of § 10406(c)(5)(C); (C) grantees may share non-personally identifying information in the aggregate for the purposes enunciated in § 10406(c)(5)(D)(i) as well as for other purposes found in § 10406(c)(5)(D)(ii) and (iii).

(10) As prescribed by § 10406(c)(2) of the FVPSA, the Tribe will use grant funds in a manner that avoids prohibited discrimination on the basis of age, disability, sex, race, color, national origin, or, as appropriate, religion.

(11) Funds made available under the FVPSA will be used to supplement and not supplant other federal, state, Tribal and local public funds expended to provide services and activities that promote the objectives of the FVPSA (§ 10406(c)(6)).

(12) Receipt of supportive services under the FVPSA will be voluntary. No condition will be applied for the receipt of emergency shelter (§ 10408(d)(2)).

(13) The Tribe has a law or procedure to bar an abuser from a shared household or a household of the abused person, which may include eviction laws or procedures, where appropriate (§ 10407(a)(2)(H)).

Tribally Designated Official

Tribe or Tribal Organization

Appendix B

LGBTQ (also known as “Two-Spirited”) Accessibility Policy

As the Authorized Organizational Representative (AOR) signing this application on behalf of [Insert full, formal name of applicant organization]

I hereby attest and certify that:

The needs of lesbian, gay, bisexual, transgender, and questioning (also known as “Two-Spirited”) program participants are taken into consideration in applicant's program design. Applicant considered how its program will be inclusive of and non-stigmatizing toward such participants. If not already in place, awardee and, if applicable, subawardees must establish and publicize policies prohibiting harassment based on race, sexual orientation, gender, gender identity (or expression), religion, and national origin. The submission of an application for this funding opportunity constitutes an assurance that applicants have or will put such policies in place within 12 months of the award. Awardees should ensure that all staff members are trained to prevent and respond to harassment or bullying in all forms during the award period. Programs should be prepared to monitor claims, address them seriously, and document their corrective action(s) so all participants are assured that programs are safe, inclusive, and non-stigmatizing by design and in operation. In addition, any subawardees or subcontractors:

• Have in place or will put into place within 12 months of the award policies prohibiting harassment based on race, sexual orientation, gender, gender identity (or expression), religion, and national origin;

• Will enforce these policies;

• Will ensure that all staff will be trained during the award period on how to prevent and respond to harassment or bullying in all forms, and;

• Have or will have within 12 months of the award, a plan to monitor claims, address them seriously, and document their corrective action(s).

Insert Date of Signature:

Print Name and Title of the AOR:

Signature of AOR:

[End of full FOA]

Authority: The statutory authority for this program is 42 U.S.C. 10401-10414.

Mary M. Wayland,
Senior Grants Policy Specialist, Division of Grants Policy, Office of Administration.

[FR Doc. 2015-05010 Filed 3-4-15; 8:45 am]

BILLING CODE 4184-32-P